DEPARTMENT OF JUSTICE

Office of Justice Programs

[OJP (OJP) Docket No. 1461]

Hearing of the Review Panel on Prison Rape

AGENCY: Office of Justice Programs, Justice.

ACTION: Notice of hearing.

SUMMARY: The Office of Justice Programs (OJP) is announcing the first hearing of the Review Panel on Prison Rape (Panel), which will be held in Represa, California, on November 14-15, 2006. The hearing times and location are noted below. The purpose of the hearing is to identify common characteristics, not only of victims and perpetrators of prison rape, but also of prisons and prison systems with a high incidence of prison rape and those that have been successful in deterring prison rape.

DATES: The hearing schedule is as follows:

1. Tuesday, November 14, 2006, 9 a.m. to 4 p.m.

2. Wednesday, November 15, 2006, 9 a.m. to 4 p.m.

ADDRESSES: The hearing will take place at the California State Prison, Sacramento on Prison Road in Represa, California 95671.

FOR FURTHER INFORMATION CONTACT: Kathleen M. Severens, Designated Federal Official, OJP, Kathleen.Severens@usdoj.gov, or 202-514-8827. [Note: This is not a toll-free number.]

SUPPLEMENTARY INFORMATION: The Review Panel on Prison Rape, which was established pursuant to the Prison Rape Elimination Act of 2003, Public Law 108-79, 117 Stat. 972 (codified as amended at 42 U.S.C. 15601-15609 (2006)), will hold its initial hearing on November 14-15, 2006, to carry out the review functions specified at 42 U.S.C. 15603(b)(3)(A). Results from this hearing will assist the Panel in formulating the questions that it will ask various facilities (including prisons, jails, and lockups at locations throughout the United States) at future hearings of the Review Panel to discern the best practices for deterring prison rape.

The Panel chose to hold its initial hearing at the California State Prison in Sacramento because the California Department of Corrections and Rehabilitation (CDCR) is a large system. The Panel seeks to learn the following information from large prison systems similar to the CDCR:

• The factors in a prison environment conducive to deterring sexual assaults;

• The prison system protocols and policies requiring examination by the Panel;

• The staff persons in large systems that could be potential key witnesses at future Panel hearings;

• Useful methods for evaluating prison rape training of correctional officers and medical staff;

• Likely barriers to reporting, investigation, and deterrence of prison rape; and

• Useful methods for assessing the role of correctional officers' unions in deterring prison rape.

The Panel's decision to hold its initial hearing at the California State Prison in Sacramento is not based upon any ranking or finding by the Bureau of Justice Statistics (BJS) concerning the incidence of prison rape in any facility of the CDCR. The BJS rankings of all State and federal facilities (both adult and juvenile) by incidence of prison rape are expected to be completed by June 30, 2007.

Members of the public who wish to attend the hearing must present photo identification upon entrance to the facility. Pursuant to CDCR rules and regulations, additional identification documentation may be required. Space is limited. Special needs requests should be made to Kathleen M. Severens, Designated Federal Official, OJP, Kathleen.Severens@usdoj.gov or 202-514-8827, at least one week prior to the hearing.

Dated: October 18, 2006.
Michael Alston,
Office of Justice Programs.

[FR Doc. E6-17815 Filed 10-24-06; 8:45 am]

BILLING CODE 4410-18-P